DEPARTMENT OF ENERGY

Federal Energy Regulatory Commission

Combined Notice of Filings #2

Take notice that the Commission received the following electric rate filings:

Docket Numbers: ER12-1246-000.

Applicants: Southern California Edison Company.

Description: Amended SGIA SERV AG SCE-TDBU SCE-GPS 2510-2580 Walnut Ave Roof Top Solar Project to be effective 3/14/2012.

Filed Date: 3/13/12.

Accession Number: 20120313-5003.

Comments Due: 5 p.m. ET 4/3/12.

Docket Numbers: ER12-1247-000.

Applicants: Louisville Gas & Electric Company, Kentucky Utilities Company.

Description: Louisville Gas and Electric Company, et al. submits Notice of Cancellation.

Filed Date: 03/13/2012.

Accession Number: 20120313-5022.

Comments Due: 5 p.m. ET 4/3/12.

Docket Numbers: ER12-1248-000.

Applicants: PJM Interconnection, LLC.

Description: Original Service Agreement No. 3246; Queue No. W1-119 to be effective 2/14/2012.

Filed Date: 3/13/12.

Accession Number: 20120313-5024.

Comments Due: 5 p.m. ET 4/3/12.

Docket Numbers: ER12-1249-000.

Applicants: PJM Interconnection, LLC.

Description: Original Service Agreement No. 3247; Queue No. W1-120 to be effective 2/14/2012.

Filed Date: 3/13/12.

Accession Number: 20120313-5026.

Comments Due: 5 p.m. ET 4/3/12.

Docket Numbers: ER12-1250-000.

Applicants: PSEG New Haven LLC.

Description: PSEG New Haven LLC Market Based Rated Tariff to be effective 4/6/2012.

Filed Date: 3/13/12.

Accession Number: 20120313-5027.

Comments Due: 5 p.m. ET 4/3/12.

Docket Numbers: ER12-1251-000.

Applicants: PJM Interconnection, LLC.

Description: Original Service Agreement No. 3248; Queue No. W2-083 to be effective 2/14/2012.

Filed Date: 3/13/12.

Accession Number: 20120313-5028.

Comments Due: 5 p.m. ET 4/3/12.

Docket Numbers: ER12-1252-000.

Applicants: PJM Interconnection, LLC.

Description: Original Service Agreement No. 3258; Queue No. X2-014 to be effective 2/20/2012.

Filed Date: 3/13/12.

Accession Number: 20120313-5030.

Comments Due: 5 p.m. ET 4/3/12.

Docket Numbers: ER12-1253-000.

Applicants: PJM Interconnection, LLC.

Description: Original Service Agreement No. 3257; Queue No. W4-097 to be effective 2/20/2012.

Filed Date: 3/13/12.

Accession Number: 20120313-5046.

Comments Due: 5 p.m. ET 4/3/12.

Docket Numbers: ER12-1254-000.

Applicants: PJM Interconnection, LLC.

Description: Notice of Cancellation of SA No. 3134; FOA between DEO and DEK to be effective 5/12/2012.

Filed Date: 3/13/12.

Accession Number: 20120313-5066.

Comments Due: 5 p.m. ET 4/3/12.

Take notice that the Commission received the following qualifying facility filings:

Docket Numbers: QF12-99-001.

Applicants: DeWind Novus II, LLC.

Description: Application for Certification of a Small Power Facility.

Filed Date: 3/13/12.

Accession Number: 20120313-5104.

Comments Due: 5 p.m. ET 4/3/12.

Docket Numbers: QF11-235-001.

Applicants: DeWind Novus, LLC.

Description: Application for Certification of a Small Power Facility.

Filed Date: 3/13/12.

Accession Number: 20120313-5114.

Comments Due: 5 p.m. ET 4/3/12.

Docket Numbers: QF12-252-001.

Applicants: Elk Hills Power, LLC.

Description: Application for Certification of a Cogeneration Facility.

Filed Date: 3/13/12.

Accession Number: 20120313-5080.

Comments Due: 5 p.m. ET 4/3/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 13, 2012.
Nathaniel J. Davis, Sr.,
Deputy Secretary.

[FR Doc. 2012-6634 Filed 3-19-12; 8:45 am]

BILLING CODE 6717-01-P